DEPARTMENT OF COMMERCE

International Trade Administration

Notice of Opportunity To Request Administrative Review; Correction

AGENCY: Enforcement and Compliance, International Trade Administration, Department of Commerce.

ACTION: Notice; correction.

SUMMARY: The U.S. Department of Commerce (Commerce) published a notice of opportunity to request administrative reviews of orders, findings, or suspended investigations with November anniversary dates in the Federal Register of November 1, 2024. Commerce inadvertently omitted the antidumping duty order on Certain Cut-to-Length Carbon Steel Plate (A-570-849) from the People's Republic of China, and the period of review for that order of 11/1/2023-10/31/2024 from that notice.

FOR FURTHER INFORMATION CONTACT: Brenda E. Brown, Office of AD/CVD Operations, Customs Liaison Unit, Enforcement and Compliance, International Trade Administration, U.S. Department of Commerce, 1401 Constitution Avenue NW, Washington, DC 20230, telephone: (202) 482-4735.

SUPPLEMENTARY INFORMATION:

Background

On November 1, 2024, Commerce published in the Federal Register the November Opportunity Notice.¹ In that notice, Commerce inadvertently omitted the antidumping duty order on Certain Cut-to-Length Carbon Steel Plate (A-570-849) from the People's Republic of China, and the period of review for that order of 11/1/2023-10/31/2024 from that notice.

¹ See Antidumping or Countervailing Duty Order, Finding, or Suspended Investigation; Opportunity To Request Administrative Review, 89 FR 87338 (November 1, 2024) (November Opportunity Notice).

Correction

In the Federal Register of November 1, 2024, in FR Doc 2024-87338, on page 87339, correct the table under “Antidumping Duty Proceedings” for “The People's Republic of China,” to add the antidumping duty order on Certain Cut-to-Length Carbon Steel Plate (A-570-849) from the People's Republic of China, and the period of review for that order of 11/1/2023-10/31/2024.²

² Id.

We are hereby notifying interested parties that not later than 30 days after the date of publication of this correction notice, they may request an administrative review of the antidumping duty order on Certain Cut-to-Length Carbon Steel Plate from the People's Republic of China, and period of review for 11/1/2023-10/31/2024.

Dated: December 23, 2024.
Scot Fullerton,
Acting Deputy Assistant Secretary for Antidumping and Countervailing Duty Operations.

[FR Doc. 2024-31410 Filed 12-30-24; 8:45 am]

BILLING CODE 3510-DS-P